FEDERAL COMMUNICATIONS COMMISSION

47 CFR Part 73

[DA 07-1130; MB Docket No. 03-91; RM-10693]

Radio Broadcasting Services; Wofford Heights, CA

AGENCY: Federal Communications Commission.

ACTION: Final rule.

SUMMARY: This document grants a petition filed by Dana J. Puopolo requesting the allotment of Channel 251A at Wofford Heights, California, as its first local aural transmission service. Channel 251A can be allotted consistent with the Commission's minimum spacing requirements, provided there is a site restriction of 12.8 kilometers (7.9 miles) west of Wofford Heights, using reference coordinates 35-43-28 NL and 118-35-42 WL. The site restriction is necessary to prevent short-spacings to the licensed sites of Station KRXV-FM, Channel 251B, Yermo, California and Station KDFO-FM, Channel 253B1, Delano, California.

DATES: Effective April 23, 2007.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 03-91, adopted March 7, 2007, and released March 9, 2007. The Notice of Proposed Rule Making proposed the allotment of Channel 251A at Wofford Heights, California. See 68 FR 18180, published April 15, 2003. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by adding Wofford Heights, California, Channel 251A.

Federal Communications Commission.
John A. Karousos,
Assistant Chief, Audio Division, Media Bureau.

[FR Doc. E7-5565 Filed 3-27-07; 8:45 am]

BILLING CODE 6712-01-P